DEPARTMENT OF THE INTERIOR

Bureau of Land Management

[LLNV912000 L16400000.PH0000.LXSS006F0000 261A; MO#4500011785; 10-08807; TAS: 14X1109]

Mojave-Southern Great Basin Resource Advisory Council Meetings, Nevada

AGENCY: Bureau of Land Management, Interior.

ACTION: Notice of meetings.

SUMMARY: In accordance with the Federal Land Policy and Management Act (FLPMA) and the Federal Advisory Committee Act of 1972 (FACA), the U.S. Department of the Interior, Bureau of Land Management (BLM) Mojave-Southern Great Basin Resource Advisory Council (RAC), will hold three meetings in Nevada in fiscal year 2010. All meetings are open to the public.

DATES AND TIMES: February 18, Las Vegas; March 24-25, Las Vegas; and August 26, Ely. Each meeting will include a public comment period, where the public may submit oral or written comments to the RAC. Each public comment period will begin at approximately 8:15 a.m., Thursday, unless otherwise listed in each specific, final meeting agenda.

FOR FURTHER INFORMATION CONTACT: Chris Hanefeld, (775) 289-1842, E-mail: chris_hanefeld@nv.blm.gov.

SUPPLEMENTARY INFORMATION: The 15-member council advises the Secretary of the Interior, through the BLM, on a variety of planning and management issues associated with public land management in Nevada.

Meeting locations and topics for discussion include, but are not limited to:

• February 18, BLM Southern Nevada District Office, 4701 N. Torrey Pines Dr., Las Vegas: Renewable Energy, Red Rock Canyon National Conservation Area fees.

• March 24-25, BLM Southern Nevada District Office, 4701 N. Torrey Pines Dr., Las Vegas: Off-Highway Vehicle (OHV) casual use, Southern Nevada Public Land Management Act (SNPLMA) Round 11.

• August 26, BLM Ely District Office, 702 N. Industrial Way, Ely: Land use planning Reports of district and field office activities will be given at each meeting. The council may raise other topics at any of the three planned meetings. Final agendas with any additions/corrections to agenda topics, locations, field trips and meeting times, will be posted on the BLM Mojave-Southern Great Basin Resource Advisory Council (RAC) Web site at: http://www.blm.gov/nv/st/en/res/resource_advisory/mojave-southern_grat.html, and sent to the media at least 14 days before each meeting. Individuals who need special assistance such as sign language interpretation or other reasonable accommodations, or who wish to receive a copy of each agenda, should contact Chris Hanefeld no later than 10 days prior to each meeting.

Michael J. Herder,
Acting Ely District Office Manager.

[FR Doc. 2010-1729 Filed 1-27-10; 8:45 am]

BILLING CODE 4310-HC-P